DEPARTMENT OF THE INTERIOR

Bureau of Land Management

[LLWY920000. L57000000.FI0000. 17XL5017AR]

Notice of Proposed Reinstatement of Terminated Oil and Gas Leases WYW-178369, Wyoming

AGENCY: Bureau of Land Management, Interior.

ACTION: Notice.

SUMMARY: As provided for under the Mineral Leasing Act of 1920, as amended, the Bureau of Land Management (BLM) received a petition for reinstatement of competitive oil and gas lease WYW-178369 from WPX Energy RM Company for land in Sweetwater County, Wyoming. The lessee filed the petition on time, along with all rentals due since the lease terminated under the law. No leases affecting this land were issued before the petition was filed.

FOR FURTHER INFORMATION CONTACT: Christopher Hite, Branch Chief for Fluid Minerals Adjudication, Bureau of Land Management, Wyoming State Office, 5353 Yellowstone Road, Cheyenne, Wyoming 82009; phone 307-775-6176; email chite@blm.gov. Persons who use a telecommunications device for the deaf may call the Federal Relay Service (FRS) at 1-800-877-8339 to contact Christopher Hite during normal business hours. The FRS is available 24 hours a day, seven days a week, to leave a message or question with the above individual. A reply will be sent during normal business hours.

SUPPLEMENTARY INFORMATION: Termination of a lease is automatic and statutorily imposed by Congress when rental fees are not paid in a timely manner. Lease reinstatement terms are also set by Congress. Oil and gas lease WYW-178369 in Sweetwater County, Wyoming, was terminated by operation of law effective December 1, 2016, for failure to pay rental timely. The lessee of record petitioned for reinstatement of the lease and met all filing requirements for a Class II reinstatement.

The lessee agreed to the amended lease terms for rentals of $10 per acre, or fraction thereof, per year and royalty rates of 16⅔ percent. The lessee paid the required $500 administrative fee and the $159 cost of publishing this notice. The lessee meets the requirements for reinstatement of the leases per Sec. 31(d) and (e) of the Mineral Leasing Act of 1920 (30 U.S.C. 188). Reinstatement of these leases conforms to the terms and conditions of all applicable land use plans, including the 2015 Approved Resource Management Plan Amendments for the Rocky Mountain Region, and other applicable National Environmental Policy Act documents.

The BLM proposes to reinstate the lease effective December 1, 2016, under the amended terms and conditions of the lease and the increased rental and royalty rates cited above. The lease will be reinstated 30 days after publication of this proposed reinstatement notice in the Federal Register.

(Authority: 30 U.S.C. 188(e)(4) and 43 CFR 3108.2-3(b)(2)(v))

Christopher Hite,
Chief, Branch of Fluid Minerals Adjudication.

[FR Doc. 2020-19758 Filed 9-4-20; 8:45 am]

BILLING CODE 4310-22-P